NUCLEAR REGULATORY COMMISSION

[Docket Nos. 50-344, License No. NPF-1 and 72-017, License No. SNM-2509]

Portland General Electric Company; Notice of Termination of Trojan Nuclear Plant Facility Operating License No. NPF-1

AGENCY: Nuclear Regulatory Commission.

ACTION: Notice of termination of the Portland General Electric Company (PGE) Trojan Nuclear Plant (TNP) Facility Operating (Possession Only) License, No. NPF-1.

SUMMARY: The Nuclear Regulatory Commission (NRC) is noticing the termination of the TNP Facility Operating (Possession Only) License, No. NPF-1, (NRC Docket No. 50-344), located near Portland, Oregon.

Background: The TNP facility is located in Columbia County, Oregon, approximately 42 miles north of Portland, Oregon. TNP began commercial operation in May 1976. The reactor output was rated at 3411 MWt with an approximate net electrical output rating of 1130 MWe. The nuclear steam supply system was a four-loop pressurized water reactor designed by Westinghouse Electric Corporation. TNP was shut down for the last time on November 9, 1992.

In August 1999, PGE submitted its License Termination Plan (LTP) for the TNP facility. Under the provisions of 10 CFR 50.82(a)(10), the NRC approved the LTP by license amendment dated February 12, 2001. PGE conducted decommissioning activities at TNP in accordance with the approved LTP from February 2001 to December 2004. In accordance with the approved LTP, the licensee conducted final status surveys (FSSs) to demonstrate that the facility and site meet the criteria for unrestricted release as presented in 10 CFR 20.1402. Details of the FSS results were submitted to the NRC in 10 separate FSS reports (FSSRs).

PGE submitted an application for termination of the TNP Facility Operating (Possession Only) License, No. NPF-1, on December 20, 2004. The application states that PGE has completed remaining radiological decommissioning and FSSs of the TNP facility and site in accordance with the NRC-approved LTP, and the FSSs demonstrate that the facility and site meet the criteria for decommissioning and release of the site for unrestricted use that are stipulated in 10 CFR part 20, subpart E.

The NRC conducted a number of performance-based in-process inspections of the licensee's FSS program during the decommissioning process. The purpose of the inspections was to verify that the FSS was being conducted in accordance with of the commitments made by the licensee in the LTP, and to evaluate the quality of the FSS by reviewing the FSS procedures, methodology, equipment, surveyor training and qualifications, document quality control, and survey data supporting the FSSRs. In addition, the NRC conducted a number of independent confirmatory surveys to verify the FSS results obtained and reported by the licensee. Confirmatory surveys consisted of surface scans for beta and gamma radiation, direct measurements for total beta activity, and collection of smear samples for determining removable radioactivity levels.

The NRC staff reviewed the FSS Report and concludes that: (I) Dismantlement and decontamination activities were performed in accordance with the approved LTP; and (ii) The FSS and associated documentation, including an assessment of dose contributions associated with parts released for use before approval of the LTP, demonstrate that the facility and site have met the criteria for decommissioning in 10 CFR Part 20, Subpart E. Therefore, NRC is terminating TNP Facility Operating License No. NPF-1.

FOR FURTHER INFORMATION CONTACT: See the application dated December 20, 2004, and the Safety Evaluation Report, available for public inspection at the Commission's Public Document Room (PDR), located at One White Flint North, Public File Area O1 F21, 11555 Rockville Pike (first floor), Rockville, Maryland. Publicly available records will be accessible electronically from the Agency-wide Documents Access and Management System's (ADAMS) Public Electronic Reading Room on the Internet at the NRC Web site, http://www.nrc.gov/reading-rm/adams.html (ADAMS Accession Nos. ML050030054, and ML050680345). Persons who do not have access to ADAMS or who encounter problems in accessing the documents located in ADAMS, should contact the NRC PDR Reference staff by telephone at 1-800-397-4209, 301-415-4737 or by e-mail to pdr@nrc.gov.

Dated in Rockville, Maryland this 23rd day of May, 2005.
For the Nuclear Regulatory Commission.
Andrew Persinko,
Acting Deputy Director, Decommissioning Directorate, Division of Waste Management and Environmental Protection, Office of Nuclear Material Safety and Safeguards.

[FR Doc. E5-2734 Filed 5-27-05; 8:45 am]

BILLING CODE 7590-01-P